DEPARTMENT OF ENERGY

Western Area Power Administration

[DOE/EIS-0461]

Intent To Prepare an Environmental Impact Statement and To Conduct Scoping Meetings: Interconnection of the Proposed Hyde County Wind Energy Center Project, South Dakota

AGENCY: Western Area Power Administration, DOE.

ACTION: Notice of Intent to Prepare an Environmental Impact Statement and to Conduct Scoping Meetings; Notice of Floodplain and Wetlands Involvement.

SUMMARY: NextEra Energy Resources (NextEra) applied to interconnect its proposed 150-megawatt (MW) Hyde County Wind Energy Center Project (Project), located in Hyde County, South Dakota, with the Western Area Power Administration's (Western) existing Fort Thompson Substation in Buffalo County, South Dakota. Western will prepare an environmental impact statement (EIS) on the proposal to interconnect the Project in accordance with the National Environmental Policy Act of 1969 (NEPA), U.S. Department of Energy (DOE) NEPA Implementing Procedures, and the Council on Environmental Quality (CEQ) regulations for implementing NEPA.

Western's need for agency action is precipitated by NextEra's application to interconnect with Western's power transmission system. Western needs to consider NextEra's interconnection request under its Open Access Transmission Service Tariff (Tariff). This EIS will address Western's Federal action of interconnecting the proposed Project to Western's transmission system, making changes within Western's existing Fort Thompson Substation to physically connect NextEra's proposed Project, and making any necessary system modifications to accommodate the interconnection. Existing transmission line approaches to Fort Thompson Substation may also need to be realigned. By taking these actions, power generated by NextEra's proposed Project would use Western's transmission system to reach the market.

Portions of NextEra's proposed Project may affect floodplains and wetlands, so this Notice of Intent (NOI) also serves as a notice of proposed floodplain or wetland action in accordance with DOE floodplain and wetland environmental review requirements.

DATES: A public scoping meeting will be held on December 14, 2011, from 5 p.m. to 8 p.m. in Highmore, South Dakota.

The public scoping period starts with the publication of this notice and ends on January 14, 2011. Western will consider all comments on the scope of the EIS received or postmarked by that date. The public is invited to submit comments on the proposed Project at any time during the EIS process.

ADDRESSES: Western will host public scoping meetings at the Hyde County Senior Center, 103 Iowa Avenue South, Highmore, South Dakota, to provide information on the Project and gather comments on the proposal. Oral or written comments may be provided at the public scoping meetings or mailed or e-mailed to Matt Marsh, Upper Great Plains Regional Office, Western Area Power Administration, P.O. Box 35800, Billings, MT 59107-5800, e-mail MMarsh@wapa.gov, telephone (800) 358-3415.

FOR FURTHER INFORMATION CONTACT: For additional information on the proposed Project, the EIS process, or to receive a copy of the Draft EIS when it is published, contact Matt Marsh at the addresses above. For general information on the DOE's NEPA review process, contact Carol M. Borgstrom, Director, Office of NEPA Policy and Compliance, GC-54, U.S. Department of Energy, 1000 Independence Avenue SW., Washington, DC 20585-0119, telephone (202) 586-4600 or (800) 472-2756, facsimile (202) 586-7031.

SUPPLEMENTARY INFORMATION: Western is a Federal power marketing agency within the DOE that markets and delivers Federal wholesale electric power (principally hydroelectric power) to municipalities, rural electric cooperatives, public utilities, irrigation districts, Federal and State agencies, and Native American tribes in 15 western and central States. NextEra's proposed Project would be located within Western's Upper Great Plains Region, which operates in North and South Dakota, most of Montana, and portions of Iowa, Minnesota, and Nebraska. NextEra applied to interconnect their proposed 150-MW Project with Western's existing Fort Thompson Substation in Buffalo County, South Dakota. The proposed wind farm Project would be located entirely on private lands; no State- or Federal-managed land would be affected. The transmission line connecting the proposed wind farm to Fort Thompson Substation would, however, cross lands of the Crow Creek Indian Reservation. There are no designated cooperating agencies at this time, but cooperating agencies could be identified at a later date.

Western will prepare an EIS on the interconnection of the proposed Project in accordance with NEPA (42 U.S.C. 4321-4347); DOE NEPA Implementing Procedures (10 CFR part 1021), and the CEQ regulations for implementing NEPA (40 CFR parts 1500-1508).¹

¹ On October 4, 1999, DOE's Assistant Secretary for Environmental, Safety and Health delegated to Western's Administrator the authority to approve EISs for integrating transmission facilities with Western's transmission grid.

Purpose and Need for Agency Action

Western's need for agency action is precipitated by NextEra's application to interconnect with Western's power transmission system. Western needs to consider NextEra's interconnection request under Western's Tariff, which provides for open access to its transmission system through an interconnection if there is available capacity in the transmission system. This EIS will address Western's Federal action of interconnecting NextEra's proposed Project with Fort Thompson Substation, making changes within the substation to physically accomplish the interconnection, and making any necessary system modifications to accommodate the interconnection. Preliminary studies indicate that the power system can accommodate the proposed interconnection without negatively affecting system reliability or power deliveries to existing customers. The transmission system may require network and/or transmission system upgrades as determined in the final studies. Any such upgrades would be funded by NextEra as a condition of the interconnection.

Proposed Action

In compliance with the provisions of the Tariff, and considering the environmental impacts of NextEra's proposed Project as identified by the EIS process, Western will consider NextEra's interconnection request. If approved the necessary changes within Fort Thompson Substation would be made to accomplish the interconnection, and power generated by the proposed Project would use Western's transmission system to reach the market. Western will consult with the U.S. Fish and Wildlife Service under Section 7 of the Endangered Species Act and with the South Dakota State Historic Preservation Office under section 106 of the National Historic Preservation Act.

Alternatives

Western must respond to NextEra's proposed Project as it is described in the interconnection application, and make a decision on interconnection based on that application. However, Western will use the information in NextEra's interconnection request to evaluate possible options for transmission line approaches to Fort Thompson Substation. The location of the interconnection bay within the substation, other transmission lines, and any future development plans will all be considered in siting the approach. Under the no action alternative, Western would not approve the interconnection request, nor construct the interconnection facility.

Applicant's Proposed Project

NextEra's proposed Project would consist of up to 100 wind turbine generators with a combined total generating capacity of 150 MW, located within an approximately 15,000-acre site in Hyde County, South Dakota, north of Fort Thompson Substation and Pierre. The turbines would be located in short east-west oriented strings, with the strings widely scattered over an area of roughly 6 by 7 miles in size. Each turbine would be approximately 389 feet tall from tip of blade to base, and 262 feet tall from the ground to the hub. In addition to the turbines, other proposed Project facilities would include all-weather access roads to each turbine location; underground power collection lines linking turbines to the Project collector substation; the Project collector substation; an approximately 25-mile-long high-voltage transmission line linking the collector substation to Western's Fort Thompson Substation; operation and maintenance facilities and yard; Supervisory Control and Data Acquisition equipment and metering equipment; and two or three permanent meteorological towers.

NextEra plans to upgrade the existing East River Electric Cooperative (East River) 69-kilovolt (kV) transmission line that passes the west boundary of its site and continues south into Fort Thompson Substation to provide the necessary transmission link to the substation. NextEra would need to upgrade approximately 25 miles of the existing transmission line to 230-kV to provide a suitable transmission path for their proposed Project.

While Western's Federal action is to consider the interconnection request and the physical interconnection to Western's existing substation, the EIS will also identify and review the environmental impacts of NextEra's proposed Project. NextEra will be responsible for completing necessary coordination with State and local agencies to permit their proposed Project.

NextEra intends to provide renewable energy to local utilities in response to South Dakota's Renewable Energy Portfolio Standards, passed in 2008, which mandate that 10 percent of all electricity consumed in the State be produced from renewable sources by 2015.

Floodplain or Wetland Involvement

Since the proposed Project may involve action in floodplains or wetlands, this NOI also serves as a notice of proposed floodplain or wetland action. The EIS will include a floodplain/wetland assessment and floodplain/wetland statement of findings following DOE regulations for compliance with floodplain and wetlands environmental review (10 CFR part 1022). NextEra intends to avoid disturbance to all wetland areas within the proposed Project area if possible.

Environmental Issues

The location of the proposed Project is in a relatively sparsely populated portion of eastern South Dakota. The area is characterized by extensive agriculture and pasture with scattered farmsteads on section line roads. NextEra has secured leases with willing landowners for its wind generation turbines and related facilities. Available overview information indicates this area has a relatively low probability of substantial natural resources conflicts. NextEra's siting process for the wind turbine strings and associated facilities considered sensitive resources, and the proposed Project was designed to avoid these areas. The EIS will evaluate the level of impact the interconnection and NextEra's proposed Project would have on environmental resources within the 15,000-acre site, which may lead to minor modifications in the proposed Project to further avoid or minimize resource impacts. While no substantive resource conflicts have been identified thus far, the EIS will analyze the potential impacts on potentially affected environmental resources. Wind farm projects are generally known to have visual and noise effects, and may affect birds and bats.

Public Participation

Interested parties are invited to participate in the scoping process to help define the scope, significant resources, and issues to be analyzed in depth, and to eliminate from detailed study issues that are not pertinent. The scoping process will involve all interested agencies (Federal, State, county, and local), Native American tribes, public interest groups, businesses, affected landowners, and individual members of the public.

Western will consult with the Crow Creek Sioux and other potentially affected or interested tribes to jointly evaluate and address the potential effects on cultural resources, traditional cultural properties, or other resources important to the tribes. These nation-to-nation consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

A public scoping meeting will be held as described under DATES and ADDRESSES above. The meeting will be informal, and attendees will be able to speak directly with Western and NextEra representatives about the proposed Project. The public is encouraged to provide information and comments on issues it believes Western should address in the EIS. Comments may be broad in nature or restricted to specific areas of concern. After gathering comments on the scope of the EIS, Western will address those issues raised in the EIS. Comments on the interconnection and NextEra's proposed Project will be accepted at any time during the EIS process, and may be directed to Western as described under ADDRESSES above.

Western's EIS process will include the public scoping meetings; consultation and coordination with appropriate Federal, State, county, and local agencies and tribal governments; involvement with affected landowners; distribution of and public review and comment on the Draft EIS; a formal public hearing or hearings on the Draft EIS; distribution of a published Final EIS; and publication of Western's Record of Decision in the Federal Register.

Dated: November 19, 2010.
Timothy J. Meeks,
Administrator.

[FR Doc. 2010-30068 Filed 11-29-10; 8:45 am]

BILLING CODE 6450-01-P